DEPARTMENT OF TRANSPORTATION

Pipeline and Hazardous Materials Safety Administration

[Docket ID PHMSA-2012-0004]

Pipeline Safety: Random Drug Testing Rate

AGENCY: Pipeline and Hazardous Materials Safety Administration (PHMSA), DOT.

ACTION: Notice of Minimum Annual Percentage Rate for Random Drug Testing.

SUMMARY: PHMSA has determined that the minimum random drug testing rate for covered employees will remain at 25 percent during calendar year 2012.

DATES: Effective January 1, 2012, through December 31, 2012.

FOR FURTHER INFORMATION CONTACT: Stanley Kastanas, Program Manager, Substance Abuse Prevention Program, PHMSA, U.S. Department of Transportation, telephone (202) 550-0629 or email stanley.kastanas@dot.gov.

SUPPLEMENTARY INFORMATION: Operators of gas, hazardous liquid, and carbon dioxide pipelines and operators of liquefied natural gas facilities must select and test a percentage of covered employees for random drug testing. Pursuant to 49 CFR 199.105(c)(2), (3), and (4), the PHMSA Administrator's decision on whether to change the minimum annual random drug testing rate is based on the reported random drug test positive rate for the pipeline industry. The data considered by the Administrator comes from operators' annual submissions of Management Information System (MIS) reports required by 49 CFR 199.119(a). If the reported random drug test positive rate is less than one percent, the Administrator may continue the minimum random drug testing rate at 25 percent. In 2010, the random drug test positive rate was less than one percent. Therefore, the minimum random drug testing rate will remain at 25 percent for calendar year 2012.

On January 19, 2010, PHMSA published an Advisory Bulletin (75 FR 2926) implementing the annual collection of contractor MIS drug and alcohol testing data. All applicable § 199.119 (drug testing) and § 199.229 (alcohol testing) MIS reporting operators are responsible for the submission of all contractor MIS reports to PHMSA, as well as their own, by March 15, 2012.

Contractors with employees in safety-sensitive positions who performed, as defined in § 199.3 of 49 CFR Part 199, covered functions, must submit these reports only through the auspices of each operator for whom these covered employees performed those covered functions (i.e., maintenance, operations or emergency response).

Authority: 49 U.S.C. 5103, 60102, 60104, 60108, 60117, and 60118; 49 CFR 1.53.

Issued in Washington, DC on January 6, 2012.
Jeffrey D. Wiese,
Associate Administrator for Pipeline Safety.

[FR Doc. 2012-740 Filed 1-17-12; 8:45 am]

BILLING CODE 4910-60-P